NATIONAL CREDIT UNION ADMINISTRATION

Central Liquidity Facility; Correction

AGENCY: National Credit Union Administration (NCUA)

ACTION: Proposed Interpretive Ruling and Policy Statement (IRPS) 00-02; correction.

SUMMARY: The NCUA published in the Federal Register of October 25, 2000, a proposed Interpretive Ruling and Policy Statement (IRPS) 00-02, Central Liquidity Facility Advance Policy. It incorrectly stated that comments on the proposed IRPS must be received on or before December 26, 2000. This correction gives the correct deadline for comments.

DATES: Comments must be received on or before January 23, 2001.

ADDRESSES: Comments should be directed to Becky Baker, Secretary of the Board. Mail or hand-deliver comments to: National Credit Union Administration, 1775 Duke Street, Alexandria, VA 22314-3428. You may also fax comments to (703) 518-6319 or e-mail comments to boardmail@ncua.gov. Please send comments by one method only.

FOR FURTHER INFORMATION CONTACT: J. Owen Cole, Jr., Vice President, CLF, at (703) 518-6360 or Frank S. Kressman, Staff Attorney, at (703) 518-6540.

SUPPLEMENTARY INFORMATION: The NCUA published in the Federal Register of October 25, 2000, a proposed IRPS 00-02, Central Liquidity Facility Advance Policy. 65 FR 63892 (October 25, 2000). It incorrectly stated that comments on the proposed IRPS must be received on or before December 26, 2000. This correction changes the deadline for receipt of comments to January 23, 2001.

Dated: October 27, 2000.
Becky Baker,
Secretary of the Board.

[FR Doc. 00-28072 Filed 11-1-00; 8:45 am]

BILLING CODE 7535-01-U